DEPARTMENT OF ENERGY

Federal Energy Regulatory Commission

[Docket No. RP03-455-001]

Columbia Gas Transmission Corporation; Notice of Compliance Filing

July 10, 2003.

Take notice that on July 7, 2003, Columbia Gas Transmission Corporation (Columbia) filed the following revised tariff sheet to its FERC Gas Tariff, Second Revised Volume No. 1, bearing a proposed effective date of July 1, 2003:

Substitute Twelfth Revised Sheet No. 456

Columbia states that it made a filing with the Federal Energy Regulatory Commission (Commission) on May 1, 2003 in compliance with the Commission Order No. 587-R, Standards For Business Practices Of Interstate Natural Gas Pipelines, 102 FERC 61,273 (2003) issued on March 12, 2003, in Docket No. RM96-1-024. Columbia asserts that the Commission approved the filing on June 25, 2003, subject to modifications. Columbia states that the instant filing makes the modifications directed by the Commission in the June 25, 2003 Order.

Columbia states that copies of its filing are available for inspection at its offices at 12801 Fair Lakes Parkway, Fairfax, Virginia; 1700 MacCorkle Avenue, SE, Charleston, WV; and 10 G Street, NE., Suite 580, Washington, DC; and have been mailed to all firm customers, interruptible customers and affected state commissions.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 21, 2003.

Magalie R. Salas,
Secretary.

[FR Doc. 03-18036 Filed 7-16-03; 8:45 am]

BILLING CODE 6717-01-P